FEDERAL COMMUNICATIONS COMMISSION

47 CFR Part 73

[DA 05-3209, Docket No. 02-106, RM-10416 and Docket No. 02-108, RM-10418]

Radio Broadcasting Services; Harrisville and Presque Isle, MI

AGENCY: Federal Communications Commission.

ACTION: Proposed rule, dismissal.

SUMMARY: This document dismisses at the request of Petitioner Northern Paul Bunyan Radio Company its pending petitions for rulemaking to allot Channel 227A at Presque Isle, Michigan in MB Docket No. 02-106, RM-10416 and to allot Channel 226A at Harrisville, Michigan in MB Docket No. 02-108, RM-10418. See 67 FR 39933, published June 11, 2002. This document also dismisses a counterproposal filed by Northern Michigan Radio, Inc. which proposes inter alia to reallot Channel 223C1 from Atlanta, Michigan to Vanderbilt, Michigan, and conflicts with both the proposals for Presque Isle and Harrisville. The counterproposal is defective because it proposes to allot Channel 282C3 at Atlanta, Michigan as a “backfill” replacement for the loss of the community's sole local transmission service. This document therefore terminates the proceedings in MB Docket Nos. 02-106 and 02-108.

ADDRESSES: Federal Communications Commission, Washington, DC 20554.

FOR FURTHER INFORMATION CONTACT: Helen McLean, Media Bureau (202) 418-2738.

SUPPLEMENTARY INFORMATION: This is a synopsis of the Commission's Report and Order, MB Docket Nos. 02-106 and 02-108, adopted December 14, 2005 and released December 16, 2005. The full text of this Commission decision is available for inspection and copying during normal business hours in the FCC Reference Information Center (Room CY-A257), 445 12th Street, SW., Washington, DC. This document may also be purchased from the Commission's duplicating contractors, Best Copy and Printing, Inc., 445 12th Street, SW., Room CY-B402, Washington, DC 20554, telephone 1-800-378-3160 or http://www.BCPIWEB.com.

This document is not subject to the Congressional Review Act. The Commission, is, therefore, not required to submit a copy of this Report and Order to Government Accountability Office, pursuant to the Congressional Review Act, see 5 U.S.C. 801(a)(1)(A) since this proposed rules are dismissed, herein.

Federal Communications Commission.
John A. Karousos,
Assistant Chief, Audio Division, Media Bureau.

[FR Doc. E5-8252 Filed 1-3-06; 8:45 am]

BILLING CODE 6712-01-P